DEPARTMENT OF THE TREASURY

Submission for OMB Review; Comment Request

September 7, 2011.

The Department of Treasury will submit the following public information collection requirement to OMB for review and clearance under the Paperwork Reduction Act of 1995, Public Law 104-13 on or after the publication date of this notice. A copy of the submission may be obtained by calling the Bureau Information Clearance Officer listed. Comments regarding this information collection should be addressed to the OMB reviewer listed and to the Treasury PRA Clearance Officer, Department of the Treasury, 1750 Pennsylvania Avenue, NW., Suite 11010, Washington, DC 20220.

Dates: Written comments should be received on or before November 14, 2011 to be assured of consideration.

Office of Financial Education and Financial Access

OMB Number: 1505-NEW.

Type of Review: New collection.

Title: Financial Capability Community Challenge.

Abstract: Pursuant to the America Competes Act, as amended (15 U.S.C. 3701), the Department of the Treasury seeks to implement a Financial Capability Community Challenge to recognize and encourage innovation and effective practices of community-based approaches to enhance the financial capability of un- and underbanked American households. The information collected will be used to select finalists and awardees in the prize challenge. The requested information is necessary to evaluate applicants and judge the submissions for prizes.

Respondents: Non-profit organizations, state, Tribal or local government entities, businesses or other for-profit entities.

Estimated Total Annual Burden Hours: 7,250.

Treasury Clearance Officer: Louisa M. Quittman, Director, Community Programs, Office of Financial Education and Financial Access, U.S. Department of the Treasury, 1500 Pennsylvania Ave., NW., Washington, DC 20220. (202) 622-5770.

Robert Dahl,
Treasury PRA Clearance Officer.

[FR Doc. 2011-23202 Filed 9-9-11; 8:45 am]

BILLING CODE 4810-70-P